POSTAL SERVICE

39 CFR Part 20

International Mailing Services: Product and Price Changes—CPI

AGENCY: Postal Service™.

ACTION: Proposed rule; request for comments.

SUMMARY: The Postal Service proposes to revise Mailing Standards of the United States Postal Service, International Mail Manual (IMM®), to reflect changes in the prices, product features, and classification changes to Mailing Services. These changes would also implement a lower maximum weight limit on First-Class Mail International® (FCMI) large envelopes (flats), to bring them closer to compliance with Universal Postal Union (UPU) standards.

DATES: We must receive your comments on or before November 16, 2018.

ADDRESSES: Mail or deliver comments to the manager, Product Classification, U.S. Postal Service®, 475 L'Enfant Plaza SW, RM 4446, Washington, DC 20260-5015. You may inspect and photocopy all written comments, by appointment only, at USPS® Headquarters Library, 475 L'Enfant Plaza SW, 11th Floor North, Washington DC 20260, between the hours of 9 a.m. and 4 p.m., Monday through Friday, by calling 202-268-2906 in advance. Send email comments, including the name and address of the commenter, to: ProductClassification@usps.gov, with a subject line of “January 2019 International Mailing Services Price Change—CPI.” Faxed comments are not accepted.

FOR FURTHER INFORMATION CONTACT: Paula Rabkin at 202-268-2537.

SUPPLEMENTARY INFORMATION:

International Price and Service Adjustments

On October 10, 2018, the Postal Service filed a notice with the Postal Regulatory Commission in Docket No. R2019-1 of mailing services price adjustments, effective on January 27, 2019. The Postal Service proposes to revise Notice 123, Price List, available on Postal Explorer® at https://pe.usps.com, to reflect these new price changes. Proposed prices are or will be available under Docket Number R2019-1 on the Postal Regulatory Commission's website at www.prc.gov.

Over the course of time, country names have changed due to a variety of political or cultural reasons. In collaboration with International Postal Affairs and requests made through the UPU, the Postal Service is updating country names throughout mailing standards, changing Great Britain and Northern Ireland to United Kingdom of Great Britain and Northern Ireland and changing Swaziland to Eswatini.

This proposed rule also describes the price and classification changes and the corresponding mailing standards changes for the following market dominant international services:

• First-Class Mail International (FCMI) service

• International extra services and fees.

First-Class Mail International

We propose no increase in prices for single-piece FCMI letters, postcards, and flats. The price for a single-piece 1-ounce letter remains $1.15. The FCMI letter nonmachinable surcharge remains $0.21.

On October 10, 2018, the Postal Service filed a notice with the Postal Regulatory Commission in Docket No. MC2019-3. In this filing we propose a change in the maximum weight limit for First-Class Mail International (FCMI) large envelopes (flats) to 15.994 ounces, in lieu of the current 64 ounce limit. This change will more closely align the Postal Service's definition of FCMI large envelopes (flats) with the Universal Postal Union Convention's definition, which allows a maximum weight of 500 grams (17.6 ounces) for flat-shaped letter post items.

A mailpiece weighing 16 ounces or more that is presented as an FCM large envelope (flat) will be charged the applicable First-Class Package International Service® price. Alternatively, the mailer could elect to use another class of mail such as Priority Mail Express International® or Priority Mail International®, if the mailpiece meets the requirements for those mail classes.

International Extra Services and Fees

The Postal Service proposes the following increase in fees for certain market dominant international extra services including:

• Certificate of Mailing.

• Registered Mail ™.

• Return Receipt.

• Customs Clearance and Delivery Fee.

• International Business Reply ™ Mail Service.

Certificate of Mailing
| Fee
Individual pieces:
Individual article (PS Form 3817) | $1.45
Duplicate copy of PS Form 3817 or PS Form 3665 (per page) | 1.45
Firm mailing sheet (PS Form 3665), per piece (minimum 3) First-Class Mail International only | 0.41
Bulk quantities:
For first 1,000 pieces (or fraction thereof) | 8.55
Each additional 1,000 pieces (or fraction thereof) | 1.07
Duplicate copy of PS Form 3606 | 1.45

Registered Mail

Fee: $16.00.

Return Receipt

Fee: $4.10.

Customs Clearance and Delivery

Fee: Per piece $6.40.

International Business Reply Service

Fee: Cards $1.45; Envelopes up to 2 ounces $1.95.

Following the completion of Docket No. R2019-1, the Postal Service will adjust the prices for products and services covered by the IMM. These prices will be listed on Postal Explorer at https://pe.usps.com.

Accordingly, although exempt from the notice and comment requirements of the Administrative Procedure Act (5 U.S.C. 553(b), (c)) regarding proposed rulemaking by 39 U.S.C. 410(a), the Postal Service invites public comment on the following proposed changes to Mailing Standards of the United States Postal Service, International Mail Manual (IMM ®), which is incorporated by reference in the Code of Federal Regulations in accordance with 39 CFR 20.1, and to associated changes to Notice 123, Price List.

List of Subjects in 39 CFR Part 20

Foreign relations, International postal services.

Accordingly, 39 CFR part 20 is proposed to be amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

[Throughout the IMM, change all references to “Great Britain and Northern Ireland” to “United Kingdom of Great Britain and Northern Ireland” and place them in the correct alphabetical order in lists]

[Throughout the IMM, change all references to “Swaziland” to “Eswatini” and place them in the correct alphabetical order in lists]

1 International Mail Services

* * * * *

120 Preparation for Mailing

* * * * *

122 Addressing

122.1 Destination Address

* * * * *

[In item j., revise the country name in the first addressing example to read as follows:]

MR THOMAS CLARK

117 RUSSELL DRIVE

LONDON W1P 6HQ

UNITED KINGDOM

* * * * *

123 Customs Forms and Online Shipping Labels

* * * * *

123.6 Required Usage

123.61 Conditions

* * * * *

Exhibit 123.61

Customs Declaration Form Usage by Mail Category

* * * * *

[In the First-Class Mail International section, in the “Comment” column, add a second paragraph listing weight limits for FCMI large envelopes (flats) and IPA and ISAL large envelopes (flats), to read as follows:]

Type of item | Declared value, weight, or physical characteristic | Required PS form | Comment (if applicable)
* * * * * * *
First-Class Mail International Letters and Large Envelopes (Flats), as well as International Priority Airmail (IPA) Letters and Large Envelopes (Flats) and International Surface Air Lift (ISAL) Letters and Large Envelopes (Flats)
All letter-size and flat-size items, as defined in 241.2, containing only nondutiable documents | Under 16 ounces 16 ounces or more | None 2976 | See 123.63 for additional information concerning “documents.” Items containing merchandise must be mailed using Global Express Guaranteed service, Priority Mail Express International service, Priority Mail International service, or First-Class Package International Service; commercial mailers may also use IPA packages (small packets) and ISAL packages (small packets) to mail merchandise. Certain documents controlled by export regulatory agencies may also require customs documentation. See 510-590 and Publication 699 for additional information.
|  |  | FCMI large envelopes (flats) are limited to under 16 ounces; IPA flats and ISAL large envelopes (flats) are limited to 17.6 ounces.
* * * * * * *

* * * * *

140 International Mail Categories

141 Definitions

* * * * *

141.5 First-Class Mail International

[Revise the first sentence to read as follows (changing the weight limit for First-Class Mail International):] First-Class Mail International is a generic term for mailpieces that are postcard-size, letter-size, or flat-size and weigh less than 16 ounces. * * *

* * * * *

2 Conditions for Mailing

* * * * *

240 First-Class Mail International

241 Description and Physical Characteristics

* * * * *

241.2 Physical Characteristics

* * * * *

241.23 Physical Standards—Large Envelopes (Flats)

241.231 Weight Limit

[Revise the text to read as follows, changing the weight limit for First-Class Mail International large envelopes (flats):]

The weight limit for a First-Class Mail International large envelope (flat) is 15.994 ounces.

* * * * *

243 Prices and Postage Payment Methods

* * * * *

243.3 Permit Imprint—General

[Revise the text to read as follows (keeping only the first three sentences and eliminating the rest of the text having information about FCMI items requiring customs forms):]

Mailers may use a permit imprint for mailing identical- or nonidentical-weight First-Class Mail International items. Any of the First-Class Mail International permit imprint formats shown in Exhibit 152.64 is acceptable. Permit imprints must not denote “bulk mail,” “nonprofit,” or other domestic or special mail markings.

* * * * *

245 Mail Entry and Deposit

245.1 Place of Mailing

245.11 Items Eligible for Deposit or Pickup

[Revise the first sentence and the Note to read as follows (eliminating information about FCMI items requiring customs forms):]

First-Class Mail International items may be deposited through any of the following methods, provided postage is paid by a means other than the use of postage stamps: * * *

Note: First-Class Mail International letter-size and flat-size items weighing 13 ounces or less and bearing only postage stamps may also be deposited through the aforementioned methods.

* * * * *

3 Extra Services

* * * * *

370 International Money Transfer Service

* * * * *

372 Sure Money (Dinero Seguro)

* * * * *

372.3 Fees

* * * * *

Exhibit 372.3

Fees for Sure Money Service

[Insert revised fees for Sure Money to read as follows:]

Transaction type | Amount not over | Fee
Sales | $750 | $13.95
| 1,500 | 19.95
Refunds | 1,500 | 29.95
Change of Payee | 1,500 | 15.50

* * * * *

New Prices Will Be Listed in the Updated Notice 123, Price List.

Ruth Stevenson,
Attorney, Federal Compliance.

[FR Doc. 2018-22473 Filed 10-16-18; 8:45 am]

BILLING CODE 7710-12-P